DEPARTMENT OF AGRICULTURE

Rural Business—Cooperative Service

Announcement of Small, Socially-Disadvantaged Producer Grant (SSDPG) Application Deadlines in Fiscal Year 2012

Correction

In notice document 2012-9997 appearing on pages 24678-24683 in the issue of April 25, 2012, make the following correction:

1. On page 24678, in the third column, under DATES: in the third full paragraph, in the second line, “April 25, 2012” should read “July 24, 2012”.

[FR Doc. C1-2012-9997 Filed 4-27-12; 8:45 am]

BILLING CODE 1505-01-D